DEPARTMENT OF COMMERCE

International Trade Administration

[A-821-809]

Certain Hot-Rolled Flat-Rolled Carbon-Quality Steel Products From the Russian Federation: Preliminary Results of Antidumping Duty Administrative Review; 2016-2017

AGENCY: Enforcement and Compliance, International Trade Administration, Department of Commerce.

SUMMARY: The Department of Commerce (Commerce) preliminarily determines that Novolipetsk Steel (NLMK) did not make a bona fide sale during the period of review (POR) December 1, 2016, through November 30, 2017; therefore, we are preliminarily rescinding this administrative review. Interested parties are invited to comment on the preliminary results of this review.

DATES: Applicable February 19, 2019.

FOR FURTHER INFORMATION CONTACT: John McGowan or Joshua DeMoss, AD/CVD Operations, Office VI, Enforcement and Compliance, International Trade Administration, U.S. Department of Commerce, 1401 Constitution Avenue NW, Washington, DC 20230; telephone: (202) 482-3019 or (202) 482-3362, respectively.

SUPPLEMENTARY INFORMATION:

Background

Commerce published the notice of initiation of this review on February 9, 2016.¹ Pursuant to section 751(a)(3)(A) of the Tariff Act of 1930, as amended (the Act), Commerce extended these preliminary results by 90 days until December 4, 2018.² Commerce then extended the preliminary results by an additional 30 days until January 3, 2019.³

¹ See Initiation of Antidumping and Countervailing Duty Administrative Reviews, 81 FR 6832 (February 9, 2016) (Initiation Notice).

² See Memorandum to Christian Marsh, Deputy Assistant Secretary for Antidumping and Countervailing Duty Operations, entitled “Certain Hot-Rolled Carbon Steel Flat Products from the Russian Federation: Extension of Deadline for Preliminary Results of Antidumping Duty Administrative Review; 2014/2015,” dated August 17, 2016.

³ See Memorandum to Christian Marsh, Deputy Assistant Secretary for Antidumping and Countervailing Duty Operations, entitled “Certain Hot-Rolled Carbon Steel Flat Products from the Russian Federation: Extension of Deadline for Preliminary Results of Antidumping Duty Administrative Review; 2014/2015,” dated December 16, 2016.

Commerce exercised its discretion to toll all deadlines affected by the partial federal government closure from December 22, 2018, through the resumption of operations on January 29, 2019.⁴ If the new deadline falls on a non-business day, in accordance with Commerce's practice, the deadline will become the next business day. The revised deadline for the preliminary results is now February 12, 2019.

⁴ See memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. All deadlines in this segment of the proceeding have been extended by 40 days.

Scope of the Order

The product covered by this administrative review is hot-rolled steel from Russia. The full text of the scope of the order is contained in the Preliminary Decision Memorandum.

Methodology

Commerce is conducting this review in accordance with section 751(a)(1)(B) and (2) of the Tariff Act of 1930, as amended (the Act). For a full description of the methodology underlying our conclusions, see the Preliminary Decision Memorandum, which is hereby adopted by this notice. The Preliminary Decision Memorandum is a public document and is on file electronically via Enforcement and Compliance's Antidumping and Countervailing Duty Centralized Electronic Service System (ACCESS). ACCESS is available to registered users at http://access.trade.gov and is available in the Central Records Unit, Room B8024 of the main Department of Commerce building. In addition, a complete version of the Preliminary Decision Memorandum can be accessed directly at http://enforcement.trade.gov/frn/. The signed Preliminary Decision Memorandum and the electronic version of the Preliminary Decision Memorandum are identical in content.

Preliminary Rescission of the Antidumping Administrative Review of NLMK

As discussed in the Bona Fide Sales Analysis Memorandum,⁵ Commerce preliminarily finds that the sale made by (Novolipetsk Steel) NLMK serving as the basis for this review is not a bona fide sale. Commerce reached this conclusion based on the totality of the record information surrounding NLMK's reported sale, including the sales price and quantity, the limited number of sales (i.e., one sale) that NLMK reported during the POR, and customer correspondence.

⁵ See Memorandum to Abdelali Elouaradia, Acting Director of Office VI, from John C. McGowan and Joshua A. DeMoss, International Trade Compliance Analysts entitled: “2016-2017 Antidumping Duty Administrative Review of Certain Hot-Rolled Flat-Rolled Carbon-Quality Steel Products from the Russian Federation: Preliminary Bona Fide Sales Analysis for Novolipetsk Steel,” dated February 12, 2019.

Because the non-bona fide sale was the only reported sale of subject merchandise during the POR, we find that NLMK had no reviewable transactions during this POR. Accordingly, we are preliminarily rescinding this administrative review.⁶ Given that the factual information used in our bona fides analysis of NLMK's sale involves business proprietary information, see the Bona Fide Sales Analysis Memorandum for a full discussion of the basis for our preliminary determination.

⁶ See 19 CFR 351.213(d)(3).

Disclosure and Public Comment

Interested parties may submit case briefs no later than 30 days after the date of publication of the preliminary results of review.⁷ Rebuttals to case briefs may be filed no later than five days after the briefs are filed.⁸ All rebuttal comments must be limited to comments raised in the case briefs.⁹

⁷ See 19 CFR 351.309(c).

⁸ See 19 CFR 351.309(d)(1).

⁹ See 19 CFR 351.309(d)(2).

Interested parties who wish to request a hearing must submit a written request to the Assistant Secretary for Enforcement & Compliance, U.S. Department of Commerce, within 30 days after the date of publication of this notice.¹⁰ Requests should contain the party's name, address, and telephone number, the number of participants, and a list of the issues to be discussed. Oral argument presentations will be limited to issues raised in the briefs. If a request for a hearing is made, Commerce intends to hold the hearing at the U.S. Department of Commerce, 1401 Constitution Avenue NW, Washington, DC 20230, at a date and time to be determined.¹¹ Parties should confirm by telephone the date, time, and location of the hearing two days before the scheduled date.

¹⁰ See 19 CFR 351.310(c).

¹¹ See 19 CFR 351.310(d).

All submissions, with limited exceptions, must be filed electronically using ACCESS. An electronically filed document must be received successfully in its entirety by Commerce's electronic records system, ACCESS, by 5 p.m. Eastern Time (ET) on the due date. Documents excepted from the electronic submission requirements must be filed manually (i.e., in paper form) with the APO/Dockets Unit in Room 18022, and stamped with the date and time of receipt by 5 p.m. ET on the due date.¹²

¹² See Antidumping and Countervailing Duty Proceedings: Electronic Filing Procedures; Administrative Protective Order Procedures, 76 FR 39263 (July 6, 2011).

Commerce intends to issue the final results of this administrative review, which will include the results of its analysis of issues raised in any briefs received, no later than 90 days after the date these preliminary results of review are issued pursuant to section 751(a)(2)(B) of the Act.

Assessment Rates

If Commerce proceeds to a final rescission of this administrative review, the assessment rate to which NLMK's shipments will be subject will not be affected by this review. If Commerce does not proceed to a final rescission of this administrative review, pursuant to 19 CFR 351.212(b)(1), we will calculate importer-specific (or customer-specific) assessment rates based on the final results of this review.

Cash Deposit Requirements

If Commerce proceeds to a final rescission of this administrative review, NLMK's cash deposit rate will continue to be the all-others rate of 184.56 percent. If Commerce issues final results for this administrative review, Commerce will instruct CBP to collect cash deposits, effective upon the publication of the final results, at the rates established therein.

Notification to Importers

This notice also serves as a reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

We are issuing and publishing this notice in accordance with sections 751(a)(1) and 777(i)(1) of the Act.

Dated: February 11, 2019.
Christian Marsh,
Deputy Assistant Secretary for Enforcement and Compliance.

Appendix I

List of Topics Discussed in the Preliminary Decision Memorandum

I. Summary

II. Background

III. Scope of the Order

IV. Discussion of the Methodology

V. Conclusion

[FR Doc. 2019-02586 Filed 2-15-19; 8:45 am]

BILLING CODE 3510-DS-P